DEPARTMENT OF THE INTERIOR

National Park Service

Notice of Extension of Concession Contracts

AGENCY: National Park Service, Interior.

ACTION: Public notice.

DATES: Effective Date: January 1, 2009.

FOR FURTHER INFORMATION CONTACT: Jo A. Pendry, Concession Program Manager, National Park Service, Washington, DC 20240, Telephone 202/513-7156.

SUMMARY: Pursuant to 36 CFR 51.23, public notice is hereby given that the National Park Service proposes to extend the following expiring concession contracts for a period of up to 1 year, or until such time as a new contract is executed, whichever occurs sooner.

SUPPLEMENTARY INFORMATION: All of the listed concession authorizations will expire by their terms on or before December 31, 2008. The National Park Service has determined that the proposed short-term extensions are necessary in order to avoid interruption of visitor services and has taken all reasonable and appropriate steps to consider alternatives to avoid such interruption.

Conc. ID No. | Concessioner name | Park
GRTE004-98 | Triangle X Ranch, LLP | Grand Teton National Park.
GRTE006-02 | Barker Ewing Scenic Tours, Inc | Grand Teton National Park.
GRTE008-02 | Jack H. Dennis Jr. | Grand Teton National Park.
GRTE010-02 | Will Dorman | Grand Teton National Park.
GRTE011-02 | Heart Six Ranch | Grand Teton National Park.
GRTE014-02 | Countryside, LLC | Grand Teton National Park.
GRTE015-02 | Triangle X Ranch, LLP | Grand Teton National Park.
GRTE017-02 | O.A.R.S. Inc | Grand Teton National Park.
GRTE020-02 | Solitude Float Trips, Inc | Grand Teton National Park.
GRTE040-02 | Lost Creek Ranch | Grand Teton National Park.
GRTE043-02 | Great Salt Lake Council, Inc | Grand Teton National Park.
GRTE045-02 | C-H Ranch Corporation | Grand Teton National Park.
NACC001-89 | Golf Course Specialist, Inc | National Capital Parks—Central.
BLRI004-88 | Virginia Peaks of Otter | Blue Ridge Parkway.
EVER004-99 | TRF Concession Specialists of Florida, Inc | Everglades National Park.
HAV0001-89 | Ken Direction Corporation | Hawaii Volcanoes National Park.
CHIS001-98 | Island Packers, Inc | Channel Islands National Park.
PORE003-98 | Golden Gate Council of American Youth Hostels | Point Reyes National Seashore.
ISR0002-82 | Forever NPC Resorts, LLC | Isle Royale National Park.
ACAD014-02 | Carriages in the Park, Inc | Acadia National Park.
CAC0002-04 | The Benz Corporation | Cape Cod National Seashore.
FIIS003-98 | Sayville Ferry Service, Inc | Fire Island National Seashore.
FIIS004-02 | Davis Park Ferry Company, Inc | Fire Island National Seashore.
GATE003-98 | Marinas of the Future, Inc | Gateway National Recreation Area.

FOR FURTHER INFORMATION CONTACT: Jo A. Pendry, Concession Program Manager, National Park Service, Washington, DC 20240, Telephone 202/513-7156.

Dated: October 20, 2008.
Katherine H. Stevenson,
Assistant Director, Business Services.

[FR Doc. E8-29321 Filed 12-11-08; 8:45 am]

BILLING CODE 4310-70-M